Title 3—

The President

Proclamation 9256 of April 14, 2015

Day of Remembrance for President Abraham Lincoln

By the President of the United States of America

A Proclamation

President Abraham Lincoln believed that we are, at heart, one Nation and one people. At a time when America was torn apart and our very future was in doubt, he knew our country was more than a collection of States, and that we shared a bond that would not break. One hundred fifty years after President Lincoln's death, Americans join together across the Union he saved to honor his memory and celebrate the freedom for which he gave his last full measure of devotion.

A self-taught man, rugged rail-splitter, and humble lawyer from Springfield, Illinois, President Lincoln believed in the fierce independence that lies at the heart of the American experience. But he also knew that together, we can do great things—that it is through the accumulated toil and sacrifice of ordinary women and men that our country is perfected and our liberty preserved.

President Lincoln understood the immense sacrifices required to give meaning to our founding principles. With enduring faith and steady resolve, he led our Nation through Civil War, knowing the blood shed was in painful service to those same ideals. He sought to reunite our people not only in Government, but also in a freedom that knew no bounds of color or creed. It was in this spirit that he issued the Emancipation Proclamation, forever joining the cause of our Union with the advancement of liberty. As our Nation gave birth to a new era of freedom, President Lincoln charted a course that would help bind the wounds of a divided country and bring healing to a people who desperately needed it.

Even while his Presidency was characterized by war, his ambition was a just and lasting peace. Amid the discord of great conflict, President Lincoln demonstrated the wisdom to look forward. He knew a united America could serve the hopes of all its people if they seized the opportunity of their time. He established land-grant colleges and committed to a railroad connecting East to West, even as he fought to hold together North and South. He fueled new enterprises with a national currency, spurred innovation, and ignited America's imagination with a National Academy of Sciences.

As we reflect on the Great Emancipator, we are reminded that we will be remembered for what we choose to make of the moment we are given. President Lincoln has passed on a tremendous legacy to us, and we too are called to do great things. His example gives us confidence that whatever trials await us, this Nation and the freedom we cherish can, and will, prevail. Today, we reflect on the extraordinary progress he made possible, and with one voice, we rededicate ourselves to the work of ensuring a Government of the people, by the people, for the people, shall not perish from the earth.

NOW, THEREFORE, I, BARACK OBAMA, President of the United States of America, by virtue of the authority vested in me by the Constitution and the laws of the United States, do hereby proclaim April 15, 2015, as a Day of Remembrance for President Abraham Lincoln. I call upon all Americans to honor his life and legacy with appropriate programs, ceremonies, and activities. I also call upon the Governors of the United States and its Territories, and appropriate officials of all units of government, to direct that the flag be flown at half-staff on the Day of Remembrance for President Abraham Lincoln. I further encourage all Americans to display the flag at half-staff from their homes and businesses on that day.

IN WITNESS WHEREOF, I have hereunto set my hand this fourteenth day of April, in the year of our Lord two thousand fifteen, and of the Independence of the United States of America the two hundred and thirty-ninth.

[FR Doc. 2015-09018

Filed 4-16-15; 8:45 am]

Billing code 3295-F5